DEPARTMENT OF COMMERCE

National Oceanic and Atmospheric Administration

RIN 0648-XE212

Endangered and Threatened Species; Recovery Plans

AGENCY: National Marine Fisheries Service, National Oceanic and Atmospheric Administration (NOAA), Commerce.

ACTION: Notice of availability.

SUMMARY: NOAA's National Marine Fisheries Service (NMFS) announces the adoption of the Final Endangered Species Act (ESA) Coastal Multispecies Recovery Plan for the California Coastal (CC) Chinook salmon (Oncorhynchus tshawytscha) Evolutionarily Significant Unit (ESU), Northern California (NC) steelhead (O. mykiss) Distinct Population Segment (DPS), and Central California Coast (CCC) steelhead (O. mykiss) DPS. These species spawn and rear in streams and rivers along the central and northern California coast, and in tributaries to San Francisco Bay.

ADDRESSES: Electronic copies of the Public Final Recovery Plan are available online at: http://www.westcoast.fisheries.noaa.gov/protected_species/salmon_steelhead/recovery_planning_and_implementation/north_central_california_coast/north_central_california_coast_salmon_recovery_domain.htm l. A CD-ROM of these documents can be obtained by emailing a request to Andrea.Berry@noaa.gov or by writing to: Recovery Team, National Marine Fisheries Service, 777 Sonoma Avenue, Room 325, Santa Rosa, CA 95404.

FOR FURTHER INFORMATION CONTACT: Korie Schaeffer, (707) 575-6087, Korie.Schaeffer@noaa.gov, or Erin Seghesio, (707) 578-8515, Erin.Seghesio@noaa.gov.

SUPPLEMENTARY INFORMATION:

Background

The Endangered Species Act of 1973 (ESA), as amended (16 U.S.C. 1531 et seq.) requires we develop and implement recovery plans for the conservation and survival of threatened and endangered species under our jurisdiction, unless it is determined that such plans would not promote the conservation of the species. The Coastal Multispecies Recovery Plan was developed for: The CC Chinook salmon ESU, and NC and CCC steelhead DPSs. Between 1997 and 2000, NMFS listed the CCC steelhead DPS (62 FR 43937; August 18, 1997), the CC Chinook salmon ESU (64 FR 50394; September 16, 1999), and the NC steelhead DPS (65 FR 36074; June 7, 2000), as threatened under the ESA due to the precipitous and ongoing declines in their populations.

We published a Notice of Availability of the Draft Recovery Plan in the Federal Register on October 5, 2015 (80 FR 60125) and held five public meetings to present and receive comments on the Draft Plan. In response to multiple requests, we extended the public comment period for an additional 45 days on December 1, 2015 (80 FR 75066). We received comments on the Draft Plan. We revised the Draft Plan based on the comments received, and this final version now constitutes the Coastal Multispecies Recovery Plan for the CC Chinook salmon ESU, and NC and CCC steelhead DPSs. Our goal is to restore the threatened CC Chinook salmon, and NC and CCC steelhead to the point where they are self-sustaining populations within their ecosystems and no longer need the protections of the ESA.

The Final Recovery Plan

The ESA requires recovery plans incorporate, to the maximum extent practicable: (1) Objective, measurable criteria which, when met, would result in a determination that the species is no longer threatened or endangered; (2) site-specific management actions necessary to achieve the plan's goal for the conservation and survival of the species; and (3) estimates of the time required and costs to implement recovery actions.

The Recovery Plan provides background on the natural history, population trends and the potential threats to the viability of CC Chinook salmon, and NC and CCC steelhead. The Recovery Plan lays out a recovery strategy to address conditions and threats based on the best available science and incorporates objective, measurable criteria for recovery. The Recovery Plan is not regulatory, but presents guidance for use by agencies and interested parties to assist in the recovery of CC Chinook salmon, and NC and CCC steelhead. The Recovery Plan identifies actions needed to achieve recovery by improving population and habitat conditions and addressing threats to the species; links management actions to a research and monitoring program intended to fill data gaps and assess effectiveness of actions; and incorporates an adaptive management framework by which management actions and other elements may evolve as we gain information through research and monitoring. To address threats related to the species, the Recovery Plan references many of the significant efforts already underway to restore salmon and steelhead access to high quality habitat and to improve habitat previously degraded.

Recovery of CC Chinook salmon, and NC and CCC steelhead will require a long-term effort in cooperation and coordination with Federal, state, tribal and local government agencies, and the community. Consistent with the Recovery Plan, we will implement relevant actions for which we have authority, work cooperatively on implementation of other actions, and encourage other Federal and state agencies to implement recovery actions for which they have responsibility and authority.

Conclusion

NMFS has reviewed the Recovery Plan for compliance with the requirements of the ESA section 4(f), determined that it does incorporate the required elements and is therefore adopting it as the Final Recovery Plan for the CC Chinook salmon ESU, NC steelhead DPS, and CCC steelhead DPS.

Authority: 16 U.S.C. 1531 et seq.

Dated: October 6, 2016.
Daniel Bess,
Acting Deputy Director, Office of Protected Resources, National Marine Fisheries Service.

[FR Doc. 2016-24716 Filed 10-12-16; 8:45 am]

BILLING CODE 3510-22-P